DEPARTMENT OF HOUSING AND URBAN DEVELOPMENT

[Docket No. FR-4723-C-02]

FY 2002 Super Notice of Funding Availability (SuperNOFA) for HUD's Discretionary Grants Programs for Fiscal Year 2002; Technical Correction

AGENCY: Office of the Secretary, HUD.

ACTION: Super notice of funding availability (SuperNOFA) for HUD's discretionary grant programs; technical correction.

SUMMARY: On March 26, 2002, HUD published its Fiscal Year (FY) 2002 Super Notice of Funding Availability (SuperNOFA) for HUD's discretionary grant programs. This document extends the application due date for the Resident Management and Business Development, Capacity Building, and Public Housing Service Coordinator components of the ROSS program to June 25, 2002.

DATES: The application due date for the Resident Management and Business Development, Capacity Building, and Public Housing Service Coordinator components of the ROSS program has been extended to June 25, 2002. All other application due dates remain as published in the Federal Register of March 26, 2002.

FOR FURTHER INFORMATION CONTACT: For the ROSS program, please contact the office or individual listed under the “For Further Information” heading in the individual program section of the SuperNOFA, published on March 26, 2002.

SUPPLEMENTARY INFORMATION: On March 26, 2002 (67 FR 13826), HUD published its Fiscal Year (FY) 2002 Super Notice of Funding Availability (SuperNOFA) for HUD's discretionary grant programs. The FY 2002 SuperNOFA announced the availability of approximately $2.2 billion in HUD program funds covering 41 grant categories within programs operated and administered by HUD offices. This notice published in today's Federal Register extends the application due date for the Resident Management and Business Development, Capacity Building, and Public Housing Service Coordinator components of the ROSS program to June 25, 2002. Applicants that have already submitted an application for the Resident Management and Business Development, Capacity Building or Public Housing and Service Coordinator components of the program have the option of submitting a new application by the new application due date. The deadlines for applications for the Resident Service Deliver Models, Homeownership Supportive Services, and Neighborhood Networks Centers components of the ROSS program have not been changed and remain as published in the March 26, 2002 SuperNOFA.

Accordingly, in the Super Notice of Funding Availability (SuperNOFA) for HUD's Discretionary Grant Programs for Fiscal Year 2002 [Docket No.FR-4723-N-01], beginning at 67 FR 13826, in the issue of Tuesday, March 26, 2002, the following correction is made:

Resident Opportunities and Self-Sufficiency (ROSS), Beginning at 67 FR 14207

On page 14207, HUD amends the paragraph entitled “Application Deadline for ROSS Funding Categories” in the Program Overview Section to read as follows:

June 25, 2002 for Resident Management and Business Development;

June 25, 2002 for Capacity Building;

June 25, 2002 for Public Housing and Service Coordinator.

Dated: May 10, 2002.
Paula O. Blunt,
General Deputy Assistant Secretary for Public and Indian Housing.

[FR Doc. 02-12190 Filed 5-13-02; 1:13 pm]

BILLING CODE 4210-33-P